DEPARTMENT OF HOMELAND SECURITY

U.S. Customs and Border Protection

[Docket No. USCBP-2023-0005]

Commercial Customs Operations Advisory Committee

AGENCY: U.S. Customs and Border Protection (CBP), Department of Homeland Security (DHS).

ACTION: Committee management; notice of Federal advisory committee meeting.

SUMMARY: The Commercial Customs Operations Advisory Committee (COAC) will hold its quarterly meeting on Wednesday, March 29, 2023, in Seattle, Washington. The meeting will be open for the public to attend in person or via webinar. Due to COVID-19 restrictions, the in-person capacity is limited to 75 persons for public attendees.

DATES: The COAC will meet on Wednesday, March 29, 2023, from 1:00 p.m. to 5:00 p.m. PDT. Please note that the meeting may close early if the committee has completed its business. Registration to attend and comments must be submitted no later than March 24, 2023.

ADDRESSES: The meeting will be held at the Seattle Airport Marriott, 3201 South 176th Street, Seattle, Washington 98188, in the Evergreen Ballroom. For virtual participants, the webinar link and conference number will be provided to all registrants by 5:00 p.m. PDT on March 28, 2023. For information or to request special assistance for the meeting, contact Mrs. Latoria Martin, Office of Trade Relations, U.S. Customs and Border Protection, at (202) 344-1440, as soon as possible.

Comments may be submitted by one of the following methods:

• Federal eRulemaking Portal: http://www.regulations.gov. Search for Docket Number USCBP-2023-0005. To submit a comment, click the “Comment” button located on the top-left hand side of the docket page.

• Email: tradeevents@cbp.dhs.gov. Include Docket Number USCBP-2023-0005 in the subject line of the message.

Comments must be submitted in writing no later than March 24, 2023, and must be identified by Docket No. USCBP-2023-0005. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice which is available via a link on the homepage of www.regulations.gov.

See SUPPLEMENTARY INFORMATION for file formats and other information about electronic filing.

FOR FURTHER INFORMATION CONTACT: Mrs. Latoria Martin, Office of Trade Relations, U.S. Customs and Border Protection, 1300 Pennsylvania Avenue NW, Room 3.5A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, title 5 U.S.C., ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants must register using one of the methods indicated below:

For members of the public who plan to participate in person, please register online at https://teregistration.cbp.gov/index.asp?w=302 by 5:00 p.m. EDT on March 24, 2023. For members of the public who are pre-registered to attend the meeting in person and later need to cancel, please do so by 5:00 p.m. EDT on March 24, 2023, utilizing the following link: https://teregistration.cbp.gov/cancel.asp?w=302.

For members of the public who plan to participate via webinar, please register online at https://teregistration.cbp.gov/index.asp?w=303 by 5:00 p.m. EDT on March 24, 2023. For members of the public who are pre-registered to attend the meeting via webinar and later need to cancel, please do so by 5 p.m. EDT on March 24, 2023, utilizing the following link: https://teregistration.cbp.gov/cancel.asp?w=303.

The COAC is committed to ensuring that all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be multiple public comment periods held during the meeting on March 29, 2023. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Next Generation Facilitation Subcommittee will provide updates on its task forces and working groups, including an update on the progress of the Automated Commercial Environment (ACE) 2.0 Working Group and the 21st Century Customs Framework (21CCF) Task Force, and it is expected there will be recommendations for the committee's consideration in these areas. The One U.S. Government Working Group will provide an update on the work addressed this past quarter, which includes discussions with Partner Government Agencies and some of the legislative trade proposals stemming from the 21CCF Task Force and Focus Group. The Passenger Air Operations (PAO) Working Group will also have an update. This group aims to identify ways to modernize passenger processing rules and regulations, streamline the passenger experience at U.S. ports of entry, and identify challenges that affect operations. While this is a new group, the expectation is that recommendations will be developed and submitted for consideration at future COAC public meetings. The E-Commerce Task Force will provide updates regarding its discussions this past quarter pertaining to duplicate messaging related to security and trade filings.

2. The Rapid Response Subcommittee will provide updates from the Broker Modernization Working Group and the United States-Mexico-Canada Agreement (USMCA) Working Group. The Broker Modernization Working Group currently meets monthly and continues to focus on the 19 CFR part 111 final rules relating to Modernization of the Customs Broker Regulations, Continuing Education for Licensed Customs Brokers, and Customs Broker Licensing Exams. The USMCA Working Group meets bi-weekly with the expectation that recommendations will be developed and submitted for consideration at an upcoming COAC public meeting. The current focus of this working group is to review the Chapter 7 articles of the USMCA and identify gaps in implementation between the United States, Mexico, and Canada.

3. The Secure Trade Lanes Subcommittee will provide updates on its five active working groups: the newly re-formed Pipeline Working Group, the Export Modernization Working Group, the In-Bond Working Group, the Trade Partnership and Engagement Working Group, and the Cross-Border Recognition Working Group. The Pipeline Working Group plans to provide recommendations for the committee's consideration at a future public meeting. The Export Modernization Working Group has continued its work on the electronic export manifest pilot program. The In-Bond Working Group will provide recommendations for the committee's consideration and continue to focus on the implementation of previously submitted recommendations. The Trade Partnership and Engagement Working Group has focused its work on previous recommendations and benefits for Customs Trade Partnership Against Terrorism Trade Compliance partners. Lastly, the Cross-Border Recognition Working Group has developed recommendations for consideration at this quarter's public meeting.

4. The Intelligent Enforcement Subcommittee will provide updates on the work completed and topics discussed in its working groups. The Antidumping/Countervailing Duty (AD/CVD) Working Group will provide updates regarding its work and discussions on importer compliance with AD/CVD requirements. The Intellectual Property Rights Working Group (IPRWG) will provide updates relating to the development of a portal on the CBP IPR web page and interconnectivity with the United States Patent and Trademark Office's (USPTO) trademark registration database. The Bond Working Group will report the ongoing discussions and status updates for eBond requirements. The Forced Labor Working Group will provide updates regarding its work and discussions regarding the Uyghur Forced Labor Prevention Act (UFLPA).

Meeting materials will be available on March 20, 2023, at: http://www.cbp.gov/trade/stakeholder-engagement/coac/coac-public-meetings.

Dated: March 2, 2023.
Felicia M. Pullam,
Executive Director, Office of Trade Relations.

[FR Doc. 2023-04738 Filed 3-7-23; 8:45 am]

BILLING CODE 9111-14-P